DEPARTMENT OF HEALTH AND HUMAN SERVICES

Administration for Children and Families

Submission for OMB Review; Comment Request

Title: National Medical Support Notice.

OMB No.: 0970-0222.

Description: The information collected by state IV-D child support enforcement agencies is used to complete the National Medical Support Notice (NMSV) that is sent to employers of employee/obligors and used as a means of enforcing the health care coverage provision in a child support order. Primarily, the information the state child support enforcement agencies use to complete the NMSN is information regarding appropriate persons that is necessary for the enrollment of the child in employment-related health care coverage, such as the employee/obligor's name, address, and Social Security number; the employer's name and address; the name and address of the alternate recipient (child); the custodial parent's name and address. The employer forwards the second part of the NMSN to the group health plan administrator, which contains the same individual identifying information. The plan administrator requires this information to determine whether to enroll the alternate recipient in the group health plan. If necessary, the employer also initiates withholding from the employee's wages for the purpose of paying premiums to the group health plan for enrollment of the child.

Respondents: State and local title IV-D child support enforcement agencies initiate the process of enforcing medical health care coverage for the child by completing and sending the notice to known employers of the noncustodial parents (employee/obligor). Employers and plan administrators are on the receiving end of the notice.

Annual Burden Estimates
Instrument | Number of respondents | Number of responses per respondent | Average burden hours per response | Total burden hours
45CFR303.32 | 54 | 13,454 | .17 | 123,507

Estimated Total Annual Burden Hours: 123,507.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: grjohnson@acf.hhs.gov.

OMB Comment: OMB is required to make a decision concerning the collection of information between 30 and 60 days after publication of this document in the Federal Register. Therefore, a comment is best assured of having its full effect if OMB received it within 30 days of publication. Written comments and recommendations for the proposed information collection should be sent directly to the following: Office of Management and Budget, Paperwork Reduction Project, Attn: Desk Officer for ACF, E-Mail address: Katherine_T._Astrich@omb.eop.gov.

Dated: November 17, 2004.
Robert Sargis,
Reports Clearance Officer.

[FR Doc. 04-25993 Filed 11-23-04; 8:45 am]

BILLING CODE 4184-01-M